DEPARTMENT OF COMMERCE

National Oceanic and Atmospheric Administration

[I.D. 011204C]

Caribbean Fishery Management Council; Public Meetings

AGENCY: National Marine Fisheries Service (NMFS), National Oceanic and Atmospheric Administration (NOAA), Commerce.

ACTION: Notice of public meetings.

SUMMARY: The Caribbean Fishery Management Council's Habitat Advisory Panel (HAP), and the Scientific and Statistical Committee (SSC) will hold meetings.

DATES: The HAP/SSC meetings will be held on February 11-12, 2004. The HAP/SSC will convene on Wednesday, February 11, 2004, from 10 a.m. until 5 p.m., and will reconvene on Thursday, February 12, 2004, from 9 a.m. to 12 noon, approximately.

ADDRESSES: The meetings will be held at the Embassy Suites Hotel, #8000, Tartak St., Isla Verde, Carolina, Puerto Rico 00979.

FOR FURTHER INFORMATION CONTACT: Caribbean Fishery Management Council, 268 Munoz Rivera Avenue, Suite 1108, San Juan, Puerto Rico 00918-1920, telephone: (787) 766-5926.

SUPPLEMENTARY INFORMATION: The HAP and the SSC will meet to discuss the items contained in the following agenda:

1. Review draft response from the Caribbean Council and NOAA Fisheries to public comments, and recommend changes as appropriate to the essential fish habitat/environmental impact statement (EFH/EIS).

2. Review draft revisions to EIS, resulting from public comments and internal review, and recommend changes as appropriate to the EFH/EIS.

3. Other.

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-1920, telephone (787) 766-5926, at least 5 days prior to the meeting date.

Dated: January 21, 2004.
Peter H. Fricke,
Acting Director, Office of Sustainable Fisheries, National Marine Fisheries Service.

[FR Doc. 04-1692 Filed 1-26-04; 8:45 am]

BILLING CODE 3510-22-S